DEPARTMENT OF THE INTERIOR

National Park Service

Temporary Concession Contract for Whiskeytown National Recreation Area, CA

AGENCY: National Park Service, Department of the Interior.

ACTION: Notice of proposed award of temporary concession contract for Marina and other services within Whiskeytown National Recreation Area, CA.

SUMMARY: Pursuant to 36 CFR 51.24, public notice is hereby given that the National Park Service proposes to award a temporary concession contract for the conduct of certain visitor services within Whiskeytown National Recreation Area, California for a term not to exceed 1 year. The visitor services include a marina, retail and other services. This action is necessary to avoid interruption of visitor services.

DATES: The term of the temporary concession contract will commence (if awarded) as of January 1, 2007, which is the date of expiration of an expired concession contract with CC-WHIS001-83.

SUPPLEMENTARY INFORMATION: The temporary concession contract is proposed to be awarded to Oak Bottom Marina, LLC, a qualified person.

The National Park Service has determined that a temporary contract is necessary in order to avoid interruption of visitor services and has taken all reasonable and appropriate steps to consider alternatives to avoid an interruption of visitor services. This action is consistent with congressional intent that temporary contracts be used where a new park unit or land is added to the National Park System and an existing business is providing visitor services that the Secretary of Interior wishes to continue without interruption. S. Rep. No. 105-202 at 33 (1998).

This action is issued pursuant to 36 CFR 51.24(a). This is not a request for proposals.

Dated: December 17, 2006.
Sue Masica,
Acting Deputy Director, National Park Service.

[FR Doc. 07-669 Filed 2-13-07; 8:45 am]

BILLING CODE 4312-53-M